COMMODITY FUTURES TRADING COMMISSION

Sunshine Act Meetings

TIME AND DATE: 9:30 a.m. EST, Thursday, November 10, 2022.

PLACE: CFTC Headquarters Conference Center, Three Lafayette Centre, 1155 21st Street NW, Washington, DC (for Commissioners and CFTC staff participants only). Public observation by remote live feed via streaming or phone. See https://www.cftc.gov for details and instructions.

STATUS: Open.

MATTERS TO BE CONSIDERED: The Commodity Futures Trading Commission (“Commission” or “CFTC”) will hold this meeting to consider the following matters:

• Notice of Proposed Rulemaking: Reporting and Information Requirements for Derivatives Clearing Organizations; and

• Notice of Proposed Order and Request for Comment on an Application for a Capital Comparability Determination Submitted on behalf of Nonbank Swap Dealers subject to Regulation by the Mexican Comision Nacional Bancaria y de Valores.

The agenda for this meeting will be available to the public and posted on the Commission's website at https://www.cftc.gov. Instructions for public observation of the meeting via access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

(Authority: 5 U.S.C. 552b.)

Dated: November 3, 2022.
Christopher Kirkpatrick,
Secretary of the Commission.

[FR Doc. 2022-24424 Filed 11-4-22; 11:15 am]

BILLING CODE 6351-01-P